GENERAL SERVICES ADMINISTRATION

[OMB Control No. 3090-0163]

General Services Administration; Information Collection; Information Specific to a Contract or Contracting Action (Not Required by Regulation)

AGENCY: Office of the Chief Acquisition Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve an extension of a currently approved information collection requirement regarding information specific to a contract or contracting action (not required by regulation). The clearance currently expires on March 31, 2008.

Public comments are particularly invited on: Whether this collection of information is necessary and whether it will have practical utility; whether our estimate of the public burden of this collection of information is accurate and based on valid assumptions and methodology; and ways to enhance the quality, utility, and clarity of the information to be collected.

DATES: Submit comments on or before: January 25, 2008].

FOR FURTHER INFORMATION CONTACT: William Clark, Procurement Analyst, Contract Policy Division, at telephone (202) 219-1813 or via e-mail to william.clark@gsa.gov.

ADDRESSES: Submit comments regarding this burden estimate or any other aspect of this collection of information, including suggestions for reducing this burden to the Regulatory Secretariat (VIR), General Services Administration, Room 4035, 1800 F Street, NW., Washington, DC 20405. Please cite OMB Control No. 3090-0163, Information Specific to a Contract or Contracting Action (Not Required by Regulation), in all correspondence.

SUPPLEMENTARY INFORMATION:

A. Purpose

The General Services Administration (GSA) has various mission responsibilities related to the acquisition and provision of supplies, transportation, ADP, telecommunications, real property management, and disposal of real and personal property. These mission responsibilities generate requirements that are realized through the solicitation and award of public contracts. Individual solicitations and resulting contracts may impose unique information collection/reporting requirements on contractors, not required by regulation, but necessary to evaluate particular program accomplishments and measure success in meeting special program objectives.

B. Annual Reporting Burden

Respondents: 126,870.

Responses Per Respondent: 1.36.

Total Responses: 172,500

Hours Per Response: .399

Total Burden Hours: 68,900

OBTAINING COPIES OF PROPOSALS: Requesters may obtain a copy of the information collection documents from the General Services Administration, Regulatory Secretariat (VIR), 1800 F Street, NW., Room 4035, Washington, DC 20405, telephone (202) 208-7312. Please cite OMB Control No. 3090-0163, Information Specific to a Contract or Contracting Action (Not Required by Regulation), in all correspondence.

Dated: November 1, 2007.
Al Matera,
Director, Office of Acquisition Policy.

[FR Doc. E7-22903 Filed 11-23-07; 8:45 am]

BILLING CODE 6820-61-S